FEDERAL MARITIME COMMISSION

Ocean Transportation Intermediary License; Applicants

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants

AIF Services, Inc., 8500 NW 30th Terrace, Miami, FL 33122, Officer: Roberto Lores, Jr. President (Qualifying Individual).

Ocean Freight Forwarder—Ocean Transportation Intermediary Applicants

Agency International Forwarding, Inc., 8500 NW., 30th Terrace, Miami, FL 33122, Officer: Roberto Lores, Jr. President (Qualifying Individual).

Dated: May 18, 2001.
Bryant L. VanBrakle, Jr.,
Secretary.

[FR Doc. 01-13061 Filed 5-22-01; 8:45 am]

BILLING CODE 6730-01-P